DEPARTMENT OF TRANSPORATION

Federal Transit Administration

Notice of Meeting of the Transit Advisory Committee for Safety (TRACS)

AGENCY: Federal Transit Administration, DOT.

ACTION: Notice of meeting.

SUMMARY: This notice announces a public meeting of the Transit Advisory Committee for Safety (TRACS). TRACS is a Federal Advisory Committee established by the Secretary of Transportation in accordance with the Federal Advisory Committee Act to provide information, advice, and recommendations to the Secretary of Transportation and the Administrator of the Federal Transit Administration (FTA) on matters relating to public transportation safety.

DATES: The TRACS meeting will be held on July 28, 2015, from 9:00 a.m. to 5:00 p.m., and July 29, 2015, from 9:00 a.m. to 12:00 p.m. Contact Bridget Zamperini (see contact information below) by July 14, 2015, if you wish to be added to the visitor's list for access to the meeting.

ADDRESSES: The meeting will be held at the National Association of Home Builders, 1201 15th Street NW., Washington, DC 20005. Attendees who are on the visitor's list may access the building by presenting a current state issued driver's license, state issued identification card, or other valid photo identification issued by the Federal government. Although this meeting is open to the public, all attendees should pre-register with the FTA.

SUPPLEMENTARY INFORMATION: This notice is provided in accordance with the Federal Advisory Committee Act (Pub. L. 92-463, 5 U.S.C. App. 2). As noted above, TRACS is a Federal Advisory Committee established to provide information, advice, and recommendations to the Secretary of Transportation and the Administrator of the FTA on matters relating to the safety of public transportation systems. TRACS is currently composed of 28 members representing a broad base of expertise necessary to discharge its responsibilities. The first meeting of TRACS was held on September 9-10, 2010.

For more information on TRACS meetings and other TRACS information, please visit the TRACS Web site at: http://www.fta.dot.gov/13099.html. The tentative agenda for the July 2015 TRACS meeting is set forth below:

Agenda

(1) Welcome Remarks/Introductions

(2) Facility Use/Safety Briefing

(3) Review of Draft Report about Establishing a Fatigue Management Program

(4) Review of Draft Report about Preventing and Mitigating Transit Worker Assaults

(5) Public Comments

(6) Future TRACS Activities

(7) Summary of Deliverables/Concluding Remarks

As previously noted, this meeting will be open to the public. However, persons wishing to attend must contact Bridget Zamperini, Office of Transit Safety and Oversight, Federal Transit Administration, (202) 366-0306; or at TRACS@dot.gov by close of business July 14, 2015, to have your name added to the participant list. Members of the public who wish to make an oral statement at the meeting or seeking special accommodations are also directed to make a request to Bridget Zamperini, Office of Transit Safety and Oversight, Federal Transit Administration (202) 366-0306; or at TRACS@dot.gov on or before the close of business July 14, 2015. Provisions will be made to include oral statements on the agenda, if needed. Members of the public may submit written comments or suggestions concerning the activities of TRACS any time before or after the meeting at TRACS@dot.gov, or to the U.S. Department of Transportation, Federal Transit Administration, Office of Transit Safety and Oversight, Attention: Bridget Zamperini, Room E45-310, 1200 New Jersey Avenue SE., Washington, DC 20590. Information from the meeting will be posted on FTA's public Web site at http://www.fta.dot.gov. Written comments submitted to TRACS will also be posted at the above web address.

Issued in Washington, DC, this 8th day of July, 2015.
Therese W. McMillan,
Acting Administrator.

[FR Doc. 2015-17182 Filed 7-13-15; 8:45 am]

BILLING CODE P